DEPARTMENT OF ENERGY

Secretary of Energy Advisory Board

AGENCY: Department of Energy.

ACTION: Notice of Open Meeting.

SUMMARY: This notice announces an open meeting of the Secretary of Energy Advisory Board (SEAB) FracFocus Task Force. SEAB was reestablished pursuant to the Federal Advisory Committee Act (Pub. L. 92-463, 86 Stat. 770) (the Act). This notice is provided in accordance with the Act.

DATES: Monday, January 6, 2014, 9:45 a.m.-3:00 p.m.

ADDRESSES: Department of Energy, 1000 Independence Avenue SW., Washington, DC 20585.

FOR FURTHER INFORMATION CONTACT: Amy Bodette, Designated Federal Officer, U.S. Department of Energy, 1000 Independence Avenue SW., Washington, DC 20585; telephone (202) 586-0383 or facsimile (202) 586-1441; seab@hq.doe.gov.

SUPPLEMENTARY INFORMATION: Background: The Board was established to provide advice and recommendations to the Secretary on the Department's basic and applied research, economic and national security policy, educational issues, operational issues and other activities as directed by the Secretary. The FracFocus Task Force is charged with reviewing how FracFocus 2.0 houses the information Federal and State regulatory agencies require as part of their regulatory functions with regard to disclosure of the composition and quantities of fracturing fluids injected into unconventional oil and gas wells.

Purpose of the Meeting: The meeting will be an opportunity to hear updates on the work of FracFocus 2.0.

Tentative Agenda: The meeting will start at 9:45 a.m. on January 6, 2014 and will conclude at 3:00 p.m. The tentative agenda is as follows:

9:45 a.m.-10:00 p.m. Task Force Chair John Deutch Opens Meeting

10:00 a.m.-10:45 p.m. DOE presentation on FracFocus 2.0

10:45 a.m.-11:45 p.m. FracFocus Presentation

11:45 a.m.-12:00 p.m. Break

12:00 p.m.-1:00 p.m. Stakeholder Panel

1:00 p.m.-2:00 p.m. State Regulators Panel

2:00 p.m.-2:15 p.m. Break

2:15 p.m.-3:00 p.m. Public Comment Period

3:00 p.m. Meeting Adjourns

Public Participation: The meeting is open to the public. Individuals who would like to attend must RSVP to Amy Bodette no later than 5:00 p.m. on Thursday, January 2, 2014 at seab@hq.doe.gov. Please provide your name, organization, citizenship and contact information. Anyone attending the meeting will be required to present government-issued identification. Individuals and representatives of organizations who would like to offer comments and suggestions may do so at the end of the meeting on Monday, January 6, 2014. Approximately 30 minutes will be reserved for public comments. Time allotted per speaker will depend on the number who wish to speak but will not exceed 5 minutes. The Designated Federal Officer is empowered to conduct the meeting in a fashion that will facilitate the orderly conduct of business. Those wishing to speak should register to do so beginning at 9:30 a.m. on January 6, 2014.

Those not able to attend the meeting or have insufficient time to address the committee are invited to send a written statement to Amy Bodette, U.S. Department of Energy, 1000 Independence Avenue SW., Washington, DC 20585; or by email to: seab@hq.doe.gov.

Minutes: The minutes of the meeting will be available by contacting Ms. Bodette. She may be reached at the postal address or email address above.

Issued in Washington, DC, on December 17, 2013.
LaTanya R. Butler,
Deputy Committee Management Officer.

[FR Doc. 2013-30495 Filed 12-20-13; 8:45 am]

BILLING CODE 6450-01-P